DEPARTMENT OF HOMELAND SECURITY

Office of the Secretary

[Docket No. DHS-2014-0020]

Privacy Act of 1974; Department of Homeland Security/United States Coast Guard-024 United States Coast Guard Auxiliary Database (AUXDATA) System of Records

AGENCY: Department of Homeland Security, Privacy Office.

ACTION: Notice of Privacy Act System of Records.

SUMMARY: In accordance with the Privacy Act of 1974, the Department of Homeland Security proposes to update and reissue a current Department of Homeland Security system of records titled, “Department of Homeland Security/United States Coast Guard-024 United States Coast Guard Auxiliary Database System of Records.” This system of records allows the Department of Homeland Security/United States Coast Guard to track and report contact, activity, performance, and achievement information about members of its volunteer workforce element, the United States Coast Guard Auxiliary. As a result of a biennial review of this system, the Department of Homeland Security/United States Coast Guard is updating this system of records notice to: (1) Update categories of individuals covered by the system; (2) modify the categories of records in the system; and (3) update the system manager and address. Additionally, this notice includes non-substantive changes to simplify the formatting and text of the previously published notice. This updated system will be included in the Department of Homeland Security's inventory of record systems.

DATES: Submit comments on or before May 27, 2014. This updated system will be effective May 27, 2014.

ADDRESSES: You may submit comments, identified by docket number DHS-2014-0020 by one of the following methods:

• Federal e-Rulemaking Portal: http://www.regulations.gov. Follow the instructions for submitting comments.

• Fax: (202) 343-4010.

• Mail: Karen L. Neuman, Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Marilyn Scott-Perez, (202) 475-3515, Privacy Officer, Commandant (CG-61), United States Coast Guard, Mail Stop 7710, Washington, DC 20593. For privacy questions, please contact: Karen L. Neuman, (202) 343-1717, Chief Privacy Officer, Privacy Office, Department of Homeland Security, Washington, DC 20528.

SUPPLEMENTARY INFORMATION:

I. Background

In accordance with the Privacy Act of 1974, 5 U.S.C. 552a, the Department of Homeland Security (DHS) United States Coast Guard (USCG) proposes to update and reissue a current DHS system of records titled, “DHS/United States Coast Guard-024 Auxiliary Database (AUXDATA) System of Records.”

The DHS/USCG-024 Auxiliary Database System of Records allows the USCG to track and report contact, activity, performance, and achievement information about the members of its volunteer workforce element, the USCG Auxiliary. As a result of a biennial review of the system, (1) categories of individuals covered by the system have been updated to reflect the current year and accurate number of active duty and lawful residence admission, (2) categories of records in the system have been modified to include the member identification, and (3) the system manager and address have been updated to include command name, office symbol, and Mail Stop.

Consistent with DHS's information sharing mission, information stored in the DHS/USCG-024 AUXDATA System of Records may be shared with other DHS components that have a need to know the information to carry out their national security, law enforcement, immigration, intelligence, or other homeland security functions. In addition, DHS/USCG may share information with appropriate federal, state, local, tribal, territorial, foreign, or international government agencies consistent with the routine uses set forth in this system of records notice.

This updated system will be included in DHS's inventory of record systems.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/USCG-024 Auxiliary Database System of Records.

In accordance with 5 U.S.C. 552a(r), DHS has provided a report of this system of records to the Office of Management and Budget and to Congress.

System of Records

Department of Homeland Security (DHS)/United States Coast Guard (USCG)-024.

System name:

DHS/USCG-024 Auxiliary Database System of Records (AUXDATA).

Security classification:

Unclassified

System location:

DHS maintains records are maintained at USCG Headquarters in Washington, DC, the USCG Operations Systems Center in Martinsburg, West Virginia, and field offices. AUXDATA is the information technology (IT) system in which records associated with this function are maintained.

Categories of individuals covered by the system:

The USCG Auxiliary Program has approximately 31,000 members in active status and approximately 7,000 members in retired status (i.e., members who have 15 years of recorded Auxiliary membership, but no longer desire to engage in Auxiliary activities). Categories of individuals covered by this system include all current and former USCG Auxiliarists, the volunteer workforce element of the USCG. This includes applicants who have submitted requisite information to the USCG as part of the enrollment process to become a USCG Auxiliarist. The enrollment process entails submission of this information, verification of proper age, U.S. citizenship or lawful permanent residence admission, and completion of a background check conducted through the USCG Security Center (SECCEN) and the Office of Personnel Management (OPM). Auxiliary enrollment ends upon disenrollment, retirement, or death. An Auxiliarist's AUXDATA records are archived upon the end of their enrollment.

Categories of records in the system:

• Name;

• Member identification number;

• Address;

• Birth date;

• Phone number;

• Auxiliary qualifications information (formal designations in program disciplines that result from successful completion of training regimens, for example: class instructor, vessel examiner, boat coxswain, and certifications and licenses);

• Auxiliary activities information (patrols conducted, classes taught); and

• Information on facilities (boats, radio stations or aircraft-owned by Auxiliarists as well as facility identification numbers (e.g., boat license number).

Authority for maintenance of the system:

14 U.S.C. 632, 830, and 831; Departmental Regulations; 5 U.S.C. 301; the Federal Records Act, 44 U.S.C. 3101; and COMDTINST M16790.1 (series).

Purpose(s):

This system is the primary information management tool for the USCG Auxiliary program. As the repository for personal and activity data for Auxiliarists and the units they comprise, AUXDATA is routinely used at local, regional, and national USCG levels to measure and monitor the support the Auxiliary provides to USCG missions and to recognize Auxiliarists for their service. It also provides an inventory of Auxiliary surface, air, and radio facilities that are offered to and accepted for use by the USCG.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the U.S. Attorneys, or other federal agency conducting litigation or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The U.S. or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute an unwarranted invasion of personal privacy.

Disclosure to consumer reporting agencies:

None.

Policies and practices for storing, retrieving, accessing, retaining, and disposing of records in the system:

Storage:

USCG stores records in this system electronically or on paper in secure facilities in a locked drawer behind a locked door. The records are stored on tape at the USCG Operations Systems Center in Martinsburg, West Virginia.

Retrievability:

Records may be retrieved by an individual's name or employee identification number.

Safeguards:

DHS/USCG safeguards records in this system according to applicable rules and policies, including all applicable DHS automated systems security and access policies. USCG has imposed strict controls to minimize the risk of compromising the information that is being stored. Access to the computer system containing the records in this system is limited to those individuals who have a need to know the information for the performance of their official duties and who have appropriate clearances or permissions.

Retention and disposal:

Information collected by AUXDATA is stored for a minimum of five years after the record is created, then retained and destroyed in accordance with Coast Guard Commandant Instruction M5212.12 (series), Information and Life Cycle Management Manual, approved by NARA.

Personal information (name, employee identification number, address, birth date, phone number) is destroyed/deleted 30 years after disenrollment or death of a member. (AUTH: N1-26-05-10)

Item 2a Information on facilities (boats, radio stations or aircraft-owned by Auxiliarists as well as facility identification numbers (e.g., boat license number) are destroyed/deleted five years after facility becomes inactive or is withdrawn from service. (AUTH: N1-26-05-10) Item 2c(1)

Item 2b Auxiliary qualifications information (formal designations in program disciplines that result from successful completion of training regimens, for example: class instructor; vessel examiner; boat coxswain; and certifications and licenses) is contained within the Training Management Tool and are destroyed/deleted 30 years after disenrollment or death of a member. (AUTH: N1-26-05-10)

Item 2d Auxiliary activities information (patrols conducted, classes taught) is destroyed/deleted data when no longer needed for administrative use or five years after final action is completed. (AUTH: N1-26-05-10)

System Manager and address:

Commandant (CG-761), Office of Command, Control, Communications, Computers, and Sensors Capabilities, United States Coast Guard, Mail Stop 7331, Washington, DC 20593-0001. Commandant (CG-BSX), Office of Auxiliary and Boating Safety, United States Coast Guard, Mail Stop 7501, Washington, DC 20593-0001.

Notification procedure:

Individuals seeking notification of and access to any record contained in this system of records, or seeking to contest its content, may submit a request in writing to the Chief Privacy Officer and United States Coast Guard Freedom of Information Act Officer (FOIA) Officer, whose contact information can be found at http://www.dhs.gov/foia under “FOIA Contact Information.” If an individual believes more than one component maintains Privacy Act records concerning him or her, the individual may submit the request to the Chief Privacy Officer and Chief FOIA, Department of Homeland Security, 245 Murray Drive SW., Building 410, STOP-0655, Washington, DC 20528.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. § 1746, a law that permits statements to be made under penalty of perjury as a substitute for notarization. While no specific form is required, you may obtain forms for this purpose from the Chief Privacy Officer and Chief FOIA, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records;

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Records are obtained from forms completed by USCG Auxiliary members.

Exemptions claimed for the system:

None.

Dated: April 8, 2014.
Karen L. Neuman,
Chief Privacy Officer, Department of Homeland Security.

[FR Doc. 2014-09476 Filed 4-24-14; 8:45 am]

BILLING CODE 9110-04-P